DEPARTMENT OF EDUCATION

List of Correspondence From April 1, 2020, Through March 31, 2022

AGENCY: Office of Special Education and Rehabilitative Services, Department of Education.

ACTION: Notice.

SUMMARY: The Secretary is publishing the following list of correspondence from the U.S. Department of Education (Department) received by individuals during quarters two, three, and four of calendar year 2020, all four quarters of calendar year 2021, and the first quarter of calendar year 2022. The correspondence describes the Department's interpretations of the Individuals with Disabilities Education Act (IDEA) or the regulations that implement IDEA. These letters or other documents described in this list, with personally identifiable information redacted, as appropriate, can be found at https://sites.ed.gov/idea/policy-guidance/.

FOR FURTHER INFORMATION CONTACT: Rebecca Walawender, U.S. Department of Education, 400 Maryland Avenue SW, Room 5103, Potomac Center Plaza, Washington, DC 20202-2500. Telephone: (202) 245-7399. Email: Rebecca.Walawender@ed.gov.

If you are deaf, hard of hearing, or have a speech disability and wish to access telecommunications relay services, please dial 7-1-1.

On request to the person listed under FURTHER INFORMATION CONTACT, individuals with disabilities can obtain a copy of this notice and the letters or other documents described in this notice in an accessible format. The Department will provide the requestor with an accessible format that may include Rich Text Format (RTF) or text format (txt), a thumb drive, an MP3 file, braille, large print, audiotape, or compact disc, or other accessible format.

SUPPLEMENTARY INFORMATION: The following list identifies correspondence for eight quarters, April 1, 2020, through March 31, 2022. Under section 607(f) of IDEA, the Secretary is required to publish this list in the Federal Register. The list includes those letters that contain interpretations of the requirements of IDEA and its implementing regulations, as well as letters and other documents that the Department believes will assist the public in understanding the requirements of the law. The list identifies the date and topic of each letter and provides summary information, as appropriate. To protect the privacy interests of the individual or individuals involved, personally identifiable information has been redacted, as appropriate.

2020—Second Quarter

Part B—Assistance for Education of All Children With Disabilities

Section 612—State Eligibility

Topic Addressed: Procedural Safeguards

○ Letter dated June 8, 2020, to anonymous, regarding the use of IDEA Part B funds to pay hearing officers to conduct due process hearings under IDEA.

2020—Third Quarter

Part B—Assistance For Education of All Children With Disabilities

Section 615—Procedural Safeguards

Topic Addressed: Mediation

○ Letter dated July 31, 2020, to anonymous, addressing whether a parent may be required to sign a confidentiality agreement in order to participate in mediation under Part B of the IDEA.

2020—Fourth Quarter

No letters.

2021—First Quarter

No letters.

2021—Second Quarter

Part B—Assistance for Education of All Children With Disabilities

Section 602—Definitions

Topic Addressed: Special Education

○ Letter dated May 12, 2021, to Garth Tymeson, Center on Disability Health and Adapted Physical Activity, University of Wisconsin-La Crosse, regarding the provision of special education, including physical education and adapted physical education, for children with disabilities.

2021—Third Quarter

Part B—Assistance for Education of All Children With Disabilities

Section 614—Evaluations, Eligibility Determinations, Individualized Education Programs (IEPs), and Educational Placements

Topic Addressed: IEPs

○ Letter dated September 24, 2021, to Daniel Frumkin, addressing a petition for rulemaking to modify the IDEA regulations in order to establish a timeline to provide access to a child's IEP to teachers and service providers.

2021—Fourth Quarter

Part B—Assistance for Education of All Children With Disabilities

Section 614—Evaluations, Eligibility Determinations, IEPs, and Educational Placements

Topic Addressed: IEPs

○ Letter dated November 15, 2021, to WIDA Founder and Director, Timothy Boals, addressing whether IDEA requires the inclusion of language development goals in an IEP if the child is an English learner with a disability.

Section 615—Procedural Safeguards

Topic Addressed: Impartial Due Process Hearings

○ Letter dated November 17, 2021, to anonymous, regarding whether a local educational agency may file a due process complaint against a parent when a parent refuses to consent to a change in the child's IEP and whether a party has met the IDEA exhaustion requirements if a hearing officer determines that a State educational agency is not a proper party to a due process hearing.

2022—First Quarter

No letters.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Katherine Neas,
Deputy Assistant Secretary. Delegated the authority to perform the functions and duties of the Assistant Secretary for the Office of Special Education and Rehabilitative Services.

[FR Doc. 2022-13357 Filed 6-22-22; 8:45 am]

BILLING CODE 4000-01-P